DEPARTMENT OF HEALTH AND HUMAN SERVICES

National Institutes of Health

Consensus Development Conference on Antenatal Corticosteroids Revisited: Repeat Courses

Notice is hereby given of the National Institutes of Health (NIH) Consensus Development Conference on “Antenatal Corticosteroids Revisited: Repeat Courses,” which will be held August 17-18, 2000, in Masur Auditorium of the NIH Clinical Center, 9000 Rockville Pike, Bethesda, Maryland, 20892. The conference begins at 8 a.m. on August 17, and at 8:30 a.m. on August 18 and is open to the public.

Preterm delivery is a major cause of death and illness in infants. Corticosteroid treatment of pregnant women delivering prematurely was first introduced in 1972 to enhance fetal lung maturity. Subsequent research has focused on the ability of glucocorticoids to reduce mortality and brain injury in preterm neonates.

In 1994 the National Institutes of Health sponsored a Consensus Development Conference on the Effect of Corticosteroids for Fetal Maturation on Perinatal Outcomes to assess the effectiveness of antenatal glucocorticoid therapy. The Consensus Panel concluded, in part, that giving corticosticoids to pregnant women at risk for preterm delivery reduces the risk of death, respiratory distress syndrome, and intraventricular hemorrhage in preterm infants.

The 1994 panel noted that optimal benefit of antenatal corticosteroid therapy last 7 days. The panel also noted that the potential benefits and risk of repeated administration of antenatal corticosteroids 7 days after the initial course are unknown and called for additional research on this issue.

The NIH is organizing this 1½ day conference to present research on repeat courses of antenatal corticosteroid therapy. After a day of presentations and audience discussion, an independent, non-federal consensus development panel will weigh the scientific evidence and write a draft statement that will be presented to the audience on the second day. The panel's statement will address these questions:

• Is the evidence on benefits and risks of repeat courses of antenatal corticosteroids sufficient to permit consensus recommendations?

• If so, what are the recommendations?

• If not, what additional information should be obtained?

On the final day of the conference, the panel's draft statement will be read in public, at which time members of the public are invited to offer comments on the draft.

The primary sponsors of this meeting are the National Institute of Child Health and Human Development and the NIH Office of Medical Applications of Research. Co-sponsors include the National Institute of Nursing Research and the National Heart, Lung, and Blood Institute.

This is the 112th Consensus Development Conference held by the NIH in the 23-year history of the Consensus Development Program. Advance information about the conference and conference registration materials may be obtained from the NIH Consensus Program Web site—http://consensus.nih.gov. Conference information can also be obtained from Prospect Associates of Silver Spring, Maryland by calling (301) 592-3320 or by e-mail to antenatal@prospect.com. Prospect Associate's address is 10720 Columbia Pike, Suite 500, Silver Spring, Maryland 20901-4437.

Dated: July 20, 2000.
Ruth L. Kirschstein,
Acting Director, NIH.

[FR Doc. 00-19148 Filed 7-27-00; 8:45 am]

BILLING CODE 4140-01-M